DEPARTMENT OF TRANSPORTATION

Surface Transportation Board

[STB Ex Parte No. 290 (Sub-No. 4)]

Railroad Cost Recovery Procedures—Productivity Adjustment

AGENCY: Surface Transportation Board, DOT.

ACTION: Revision to proposed adoption of a Railroad Cost Recovery Procedures productivity adjustment.

SUMMARY: The Surface Transportation Board proposes to adopt 1.029 (2.9%) as the measure of average change in railroad productivity for the 1999-2003 (5-year) period. This proposal is a revision to the proposal published on February 2, 2005, at 70 FR 5509-10. The current value of 2.2% was developed for the 1998 to 2002 period.

DATES: Comments on the revised proposal are due February 25, 2005. Effective Date: The proposed productivity adjustment is effective March 31, 2005.

ADDRESSES: Send comments (an original and 10 copies) referring to STB Ex Parte No. 290 (Sub-No. 4) to: Surface Transportation Board, 1925 K Street, NW., Washington, DC 20423-0001.

FOR FURTHER INFORMATION CONTACT: H. Jeff Warren, (202) 565-1533. Federal Information Relay Service (FIRS) for the hearing impaired: 1-800-877-8339.

SUPPLEMENTARY INFORMATION: Additional information is contained in the Board's decision, which is available on our Web site http://www.stb.dot.gov. To purchase a copy of the full decision, write to, e-mail or call the Board's contractor, ASAP Document Solutions; 9332 Annapolis Rd., Suite 103, Lanham, MD 20706; e-mail asapdc@verizon.net; phone (202) 306-4004. (Assistance for the hearing impaired is available through FIRS: 1-800-877-8339.)

This action will not significantly affect either the quality of the human environment or energy conservation.

Pursuant to 5 U.S.C. 605(b), we conclude that our action will not have a significant economic impact on a substantial number of small entities within the meaning of the Regulatory Flexibility Act.

Decided: February 18, 2005.
By the Board, Chairman Nober, Vice Chairman Buttrey, and Commissioner Mulvey.
Vernon A. Williams,
Secretary.

[FR Doc. 05-3673 Filed 2-24-05; 8:45 am]

BILLING CODE 4915-01-P